DEPARTMENT OF LABOR

Occupational Safety and Health Administration

[Docket No. OSHA-2008-0037]

State Plans for the Development and Enforcement of State Standards; Extension of the Office of Management and Budget's (OMB) Approval of Information-Collection (Paperwork) Requirements

AGENCY: Occupational Safety and Health Administration (OSHA), Labor.

ACTION: Request for public comment.

SUMMARY: OSHA solicits public comment concerning its request for an extension of the information collection requirements associated with its regulations and program regarding State Plans for the development and enforcement of state standards (29 CFR 1902, 1952, 1953, 1954, 1955, 1956).

DATES: Comments must be submitted (postmarked, sent, or received) by December 2, 2008.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit three copies of your comments and attachments to the OSHA Docket Office, Docket No. OSHA-2008-0037, U.S. Department of Labor, Occupational Safety and Health Administration, Room N-2625, 200 Constitution Avenue, NW., Washington, DC 20210. Deliveries (hand, express mail, messenger, and courier service) are accepted during the Department of Labor's and Docket Office's normal business hours, 8:15 a.m. to 4:45 p.m., e.t.

Instructions: All submissions must include the Agency name and OSHA docket number for the ICR (OSHA-2008-0037). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download through the Web site. All submissions, including copyrighted material, are available for inspection and copying at the OSHA Docket Office. You may also contact Barbara Bryant at the address below to obtain a copy of the Information Collection Request.

FOR FURTHER INFORMATION CONTACT: Barbara Bryant, Directorate of Cooperative and State Programs, Office of State Programs, Occupational Safety and Health Administration, U.S. Department of Labor, Room N-3700, 200 Constitution Avenue, NW., Washington, DC 20210; telephone: (202) 693-2244; e-mail, bryant.barbara@dol.gov.

SUPPLEMENTARY INFORMATION:

I. Background

The Department of Labor, as part of its continuing effort to reduce paperwork and respondent burden, conducts a preclearance consultation program to provide the general public with an opportunity to comment on proposed and/or continuing collections of information in accordance with the Paperwork Reduction Act of 1995 (PRA 95) (44 U.S.C. 3506(c)(2)(A)). This program ensures that information is in the desired format, has practical utility, reporting burden (time and cost) is minimized, collection instruments are understandable, and OSHA's estimate of the information collection burden is correct. Currently, OSHA is soliciting comments concerning the extension of the information collection requirements contained in the series of regulations establishing requirements for the submission, initial approval, continuing approval, final approval, monitoring and evaluation of OSHA-approved State Plans:

• 29 CFR Part 1902, State Plans for the Development and Enforcement of State Standards;

• 29 CFR Part 1952, Approved State Plans for Enforcement of State Standards;

• 29 CFR Part 1953, Changes to State Plans for the Development and Enforcement of State Standards;

• 29 CFR Part 1954, Procedures for the Evaluation and Monitoring of Approved State Plans;

• 29 CFR Part 1955, Procedures for Withdrawal of Approval of State Plans; and

• 29 CFR Part 1956, State Plans for the Development and Enforcement of State Standards Applicable to State and Local Government Employees in States without Approved Private Employee Plans.

Section 18 of the Occupational Safety and Health Act offers an opportunity to the States to assume responsibility for the development and enforcement of State standards through the mechanism of an OSHA-approved State Plan. Absent an approved plan, States are precluded from enforcing occupational safety and health standards in the private sector with respect to an issue that is addressed by OSHA. Once approved and operational, the State provides most occupational safety and health enforcement and compliance assistance in the State in lieu of Federal OSHA. States also must extend this jurisdiction to cover State and local government employees. In order to obtain and maintain State Plan approval, a State must submit various documents to OSHA describing its program structure and operation, including any modifications thereto as they occur, in accordance with the identified regulations. OSHA funds 50% of the costs required to be incurred by an approved State Plan with the State at least matching and providing additional funding at its discretion.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on participating States; for example, by using automated or other technological information collection and transmission techniques.

III. Proposed Actions

OSHA is proposing to extend the collection of information requirements associated with its State Plan regulations. In doing so, the Agency is proposing to increase the burden hours from 10,522 to 10,652 hours. The increase is a result of increasing the frequency and time for State Plans to respond to requests for summary information. The Agency will summarize the comments submitted in response to this notice and will include this summary in its request to OMB to extend the approval of the information collection requirements related to its six State Plan regulations.

Type of Review: Extension of a currently approved collection.

Title: State Plans for the Development and Enforcement of State Standards.

OMB Number: 1218-0247.

Affected Public: Designated State government agencies that are seeking or have submitted and obtained approval for State Plans for the development and enforcement of occupational safety and health standards.

Number of Respondents: 27.

Frequency of Response: On occasion; quarterly; annually.

Average Time Per Response: Varies from .5 hour to respond to an information survey to 80 hours to document State annual performance goals.

Estimated Total Burden Hours: 10,652.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (FAX); or (3) by hard copy. All comments, attachments, and other material must identify the Agency name and the OSHA docket number for the ICR (Docket No. OSHA-2008-0025). You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350 (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download through this website. All submissions, including copyrighted material, are available for inspection and copying at the OSHA Docket Office. Information on using the http://www.regulations.gov Web site to submit comments and access the docket is available at the website's “User Tips” link. Contact the OSHA Docket Office for information about materials not available through the website, and for assistance in using the Internet to locate docket submissions.

V. Authority and Signature

Edwin G. Foulke, Jr., Assistant Secretary of Labor for Occupational Safety and Health, directed the preparation of this notice. The authority for this notice is the Paperwork Reduction Act of 1995 (44 U.S.C. 3506 et seq.) and Secretary of Labor's Order No. 5-2007 (72 FR 31159).

Signed at Washington, DC, this 29th day of September, 2008.
Edwin G. Foulke, Jr.,
Assistant Secretary of Labor for Occupational Safety and Health.

[FR Doc. E8-23329 Filed 10-2-08; 8:45 am]

BILLING CODE 4510-26-P